DEPARTMENT OF COMMERCE

Census Bureau

Proposed Information Collection; Comment Request; Report of Building or Zoning Permits Issued for New Privately-Owned Housing Units (Building Permits Survey)

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, written comments must be submitted on or before September 24, 2018.

ADDRESSES: Direct all written comments to Jennifer Jessup, Departmental Paperwork Clearance Officer, Department of Commerce, Room 6616, 14th and Constitution Avenue NW, Washington, DC 20230 (or via the internet at PRAcomments@doc.gov).

FOR FURTHER INFORMATION CONTACT: Requests for additional information or copies of the information collection instrument(s) and instructions should be directed Erica Filipek, U.S. Census Bureau, Economic Indicators Division, CENHQ Room 7K057, 4600 Silver Hill Road, Washington, DC 20233, telephone (301) 763-5161 (or via the internet at Erica.Mary.Filipek@census.gov).

SUPPLEMENTARY INFORMATION:

I. Abstract

The Census Bureau plans to request a three-year extension of Form C-404, “Report of Building or Zoning Permits Issued for New Privately-Owned Housing Units”, otherwise known as the Building Permits Survey. The Census Bureau uses this survey to produce statistics to monitor activity in the large and dynamic construction industry. For New Residential Construction (which includes Housing Units Authorized by Building Permits, Housing Starts, and Housing Completions), form C-404 is used to collect the estimate for Housing Units Authorized by Building Permits. For New Residential Construction and Sales, the number of housing units authorized by building permits is a key component utilized in the estimation of housing units started, completed, and sold.

These statistics help state and local governments, the Federal Government, and private industry, analyze the housing and construction industry sector of the economy. Building permits for new private housing units also are a component of The Conference Board's Leading Economic Index.

The Census Bureau uses Form C-404 to collect information on changes to the geographic coverage of permit-issuing places, the number and valuation of new residential housing units authorized by building permits, and additional information on residential permits valued at $1 million or more, including, but not limited to, site address and type of building. The Census Bureau uses these data to estimate the number of housing units started, the number of housing units completed, the number of single-family houses sold, and to select samples for the Census Bureau's demographic surveys. The Building Permits Survey is the only source of statistics on residential construction for states and smaller geographic areas. The Census Bureau uses the detailed geographic data collected from state and local officials on new residential construction authorized by building permits in the development of annual population estimates that are used by government agencies to allocate funding and other resources to local areas. Policymakers, planners, businesses, and others also use the detailed geographic data to monitor growth, plan for local services, and to develop production and marketing plans.

II. Method of Collection

Respondents may submit their data via internet or a mailed or faxed form. Some respondents choose to email proprietary electronic files or mail proprietary printouts of permit information in lieu of returning the form.

The survey universe is comprised of approximately 20,325 local governments that issue building permits. Due to resource availability and the time required to complete the data review and analysis, the Census Bureau collects data from a sample of permit-issuing jurisdictions monthly, and the remainder of the jurisdictions annually. We collect this information monthly for about 7,850 permit-issuing jurisdictions who respond via internet or who mail or fax the provided form. Another 325 jurisdictions have established reporting arrangements that allow them to submit their responses monthly via proprietary electronic files or mailed printouts using their own file format. We collect this information annually for about 11,700 permit-issuing jurisdictions who respond via internet or who mail or fax the provided form. Another 450 jurisdictions have established reporting arrangements that allow them to submit their responses annually via proprietary electronic files or mailed printouts using their own file format.

III. Data

OMB Control Number: 0607-0094.

Form Number(s): C-404.

Type of Review: Regular submission.

Affected Public: State and Local Governments.

Estimated Number of Respondents: 20,325.

Estimated Time per Response: 8 minutes for monthly respondents who report via internet, mail or faxing the form, 23 minutes for annual respondents who report via internet, mail or faxing the form and 3 minutes for monthly and annual respondents who send electronic files or mail printouts.

Estimated Total Annual Burden Hours: 17,263.

Estimated Total Annual Cost to Public: $0. (This is not the cost of respondents' time, but the indirect costs respondents may incur for such things as purchases of specialized software or hardware needed to report, or expenditures for accounting or records maintenance services required specifically by the collection.)

Respondent's Obligation: Voluntary.

Legal Authority: Title 13, United States Code, Sections 131 and 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of the Chief Information Officer.

[FR Doc. 2018-15761 Filed 7-23-18; 8:45 am]

BILLING CODE 3510-07-P